DEPARTMENT OF TRANSPORTATION

Federal Aviation Administration

[Docket No. FAA-2019-0847]

Aircraft Pilots Workforce Development Grant Program AGENCY: Federal Aviation Administration (FAA), DOT.

ACTION: Notice.

SUMMARY: The FAA announces a Period of Public Comment for Aircraft Pilots Workforce Development Grant Program and previews a forthcoming notice of funding opportunity.

DATES: Period of Public Comment for the FAA Aircraft Pilots Workforce Development Grant Program is open for 15 Days.

Period of Public Comment: Written comments should be submitted by September 24, 2020.

ADDRESSES: Please send written comments: By Electronic Docket: www.regulations.gov (Enter docket number into search field). Assistance Listing Number: 20.111, www.beta.sam.gov.

Note: This is not a request for proposals or offers.

FOR FURTHER INFORMATION CONTACT: Patricia Watts, 609-485-5043 (office), or 609-793-3063 (cell). Please visit our website at: www.faa.gov/go/awd or https://www.faa.gov/about/office_org/headquarters_offices/ang/grants/awd/.

SUPPLEMENTARY INFORMATION:

Background

On October 5, 2018, the President signed the FAA Reauthorization Act of 2018 (the Act) (Pub. L. 115-254). Section 625 of the Act addresses the projected shortages of aircraft pilots in the aviation industry by directing the establishment of an Aviation Workforce Development Grant Program to expand the aircraft pilot workforce and provide meaningful aviation education designed to prepare students to become aircraft pilots, aerospace engineers, or unmanned aircraft systems operators, and support the related professional development of teachers. Congress authorized the program through the end of Fiscal Year 2023.

Authorizing Legislation

FAA Reauthorization Act of 2018 (Pub. L. 115-254, Section 625)

National Defense Authorization Act of 2020 (Pub. L. 116-92, Section 1743)

Funding

Congress appropriated $5,000,000 of funding for the program in Fiscal Year 2020 budget and capped each approved project to be not more than $500,000 for any one grant in any one fiscal year.

Types of Projects

The types of projects supported under the new Aircraft Pilots Workforce Development Grant Program are those that:

(a) Create and deliver curriculum designed to provide high school students with meaningful aviation education that is designed to prepare the students to become aircraft pilots, aerospace engineers, or unmanned aircraft systems operators. This grant project eligibility includes delivery of existing training curriculum.

(b) Support the professional development of teachers using the above curriculum.

Section 625 also directed the FAA to ensure that the applications selected for projects established under this program allow for participation from a diverse collection of public and private schools in rural, suburban, and urban areas.

Eligible Applicants

Section 625 of the FAA Reauthorization Act of 2018 and Section 1743 of the National Defense Authorization Act of 2020 identify the following types of entities as eligible to apply for the Aircraft Pilots Workforce Development Grants:

(a) Air carriers (as defined in 49 U.S.C. 40102) or labor rganizations representing aircraft pilots;

(b) flight schools that provide flight training (as defined in 14 CFR part 61) or hold a pilot school certificate (as defined in 14 CFR part 141);

(c) accredited institutions of higher education (as defined in 20 U.S.C. 1001), or secondary schools or high schools (as defined in 20 U.S.C. 7801);

(d) state or local government entities; or

(e) an organization representing aircraft users, aircraft owners, or aircraft pilots.

Notice of Funding Opportunity (NOFO) Information

Targeted Release Date

The FAA anticipates releasing an initial Notice of Funding Opportunity (NOFO) on www.grants.gov on or about November 13, 2020. The FAA envisions thereafter releasing NOFOs each year for which funding has been appropriated. The FAA anticipates all NOFOs will remain open for 60 days.

Notice of Intent To Apply

NOFOs may ask for applicants to email the FAA with their Intent to Apply for a grant within ten days of NOFO release. Submission of Intent to Apply will not be mandatory.

Unexpended Funds

If all funds are not expended in an award cycle for each fiscal year, the FAA may make additional awards from a previous pool of applications.

Grants.Gov

The FAA will release NOFOs on www.grants.gov and intends to accept only electronic applications. Potential applicants are encouraged to create accounts on www.grants.gov and can review samples of forms by following this link: https://www.grants.gov/web/grants/forms/sf-424-family.html

Application Package

Application packages will be accepted electronically on www.grants.gov up to 11:59 p.m. prevailing Eastern Time of the closing date. Late submissions will not be accepted or reviewed. The application package may consist of completing standard government Financial Assistance Application forms such as those listed below:

• Application for Federal Assistance (SF-424)

• Budget Information for Non-Construction Programs (SF-424A)

• Assurances for Non-Construction Programs (SF-424B—Mandatory)

• SF-425 Federal Financial Report 4040-0014 and SF-425A Federal Financial Report Attachment

• Disclosure of Lobbying Activities and Certification (SF-LLL)

• Project/Performance Site Location(s), Key Contacts, and Project Abstract

• Project Abstract Summary

• ACH Vendor Payment Enrollment (SF-3881)

Proof of Eligibility

Applicants will be required to upload proof of eligibility to apply for the grants such as copies of accreditations and certifications. The FAA reserves the right to validate proof of eligibility.

Award Floor and Ceiling

The FAA may issue awards of between $25,000 and not more than $500,000 (the ceiling established in the Act) for any one grant in any one fiscal year.

Number of Awards

This grant program is competitive. The FAA reserves the right to make grant awards depending on the quantity and quality of proposals received in response to the NOFO. The expectation is to fund a minimum of 10 proposals.

Period of Performance

The FAA anticipates that the period of performance of each grant will be 12 to 18 months from the effective date of the grant award.

Funding Restrictions

• The FAA will not reimburse any pre-award costs or application preparation costs under the proposed award.

• The FAA will not reimburse for facility construction or research activities.

• The FAA may cap the use of the grant funds for Indirect and Administrative Costs to 5% of the total award.

Matching Requirements

The FAA Aviation Workforce Development Grant Programs enabling legislation does not require matching contributions in this program.

Partnerships

Individual entities, teams, and new providers are eligible to apply for a grant. The FAA encourages applicants to partner with others as appropriate to: Satisfy Congressional intent and meet the requirements of this selection criteria; reach and include students and educators in various geographic and economic areas; and to help the applicant provide additional opportunities, assistance, and resources to ensure success and sustainability.

Application Review Information

FAA Subject Matter Experts will serve on teams to provide a Technical, and a Management and Fiscal Evaluation. The Technical Evaluation Team review applications and rank proposals based upon Merit Criteria similar to the examples below. The Management and Fiscal Reviewers will review financial aspects of the proposal including the budget and supporting narrative, plans to administer and oversee activities, assessment processes and tools. Incorrect, missing documents/items, or incomplete applications will be grounds for rejecting the application. Applications should address each criterion. Late submissions will not be considered.

Examples of Potential Merit Criteria

Criterion 1

The extent to which the applicant can encourage, recruit and/or deliver pilot education and aviation training to a diverse high school population in public and private schools in rural, suburban, and urban areas. The applicant should demonstrate the following:

• Outreach and recruitment efforts to encourage careers in the aircraft pilot industry and a plan to target a diverse community of high school students.

• Plans to use a proposed curriculum and activities to support the professional development of teachers.

• Plans to provide related activities using multiple methods which may include virtual learning, in-class room, home schooling, etc.

• The role of individuals, entities or organizations participating in the proposed activities; provide letters of commitment by each participant.

• The extent to which the applicant is prepared to create, adapt or improve and deliver curriculum designed to generate and increase interest in aviation careers and provide students with meaningful educational experiences. Provide sample curriculum designs and activities students will undertake to gain a better understanding of and prepare to pursue careers as aircraft pilots, aerospace engineers, and/unmanned aircraft systems operators.

• Ability to provide education and training in Science, Technology, Engineering, and Mathematics (STEM) fields and activities related to aircraft pilots, aerospace engineers, and unmanned aircraft systems operators.

Criterion 2

Resources available to carry out this project for high school students. The applicant should demonstrate the following:

• Access to instructors in areas related to STEM, familiar with aircraft pilot training requirements.

• Ability to recruit educators and provide the professional development to those teaching the curriculum and conducting related activities.

• Plans to provide career preparation and related activities using multiple methods.

• Other resources.

Criterion 3

Ability to design and disseminate program information pertinent to aviation workforce development that encourages participation from a diverse population of students from public and private high schools in rural, suburban, and urban areas and has a continuing education component for students and educators to ensure sustainability. The applicant should demonstrate the following:

• Continuing education and distance learning opportunities with a focus on pilot and aviation workforce development needs.

• Ability to conduct courses, seminars, workshops and other activities.

• Ability to disseminate information and educational materials. Provide examples of past results from such activities and programs.

• Facilities, equipment, and resources available to provide for program delivery, student and teacher recruitment, academic and career counseling, and information dissemination activities.

Criterion 4

Ability to effectively administer the proposed activities. The FAA is interested in a disciplined administrative and strategic project plan. Include an approach to efficiently control administrative expenses while effectively allocating resources between projects designed to optimize aviation and STEM career awareness, prepare students to enter related fields, and deliver curriculum. The applicant should demonstrate the following:

• Provide a plan describing how the applicant will organize and manage the various tasks.

• Describe how the applicant will meet performance goals: Develop, adapt, or expand and conduct, evaluate, and manage the initiatives within the task(s).

• Indicate the entity prepared to serve as the lead for administrative purposes and describe the responsibilities to be undertaken, should a team propose.

• Provide a proposed budget to achieve program goals with a supporting narrative.

• Describe how the recipient plans to ensure that projects established under this program encourage participation from a diverse population of students from public and private high schools in rural, suburban, and urban areas.

Industry Consultation

Prior to selecting among competing applications, the Secretary shall consult with representatives from aircraft repair stations, design and production approval holders, air carriers, labor organizations, business aviation, general aviation, educational institutions, and other relevant aviation sectors. Therefore, the FAA is assuming this responsibility by providing stakeholders and the public an opportunity to review this preliminary plan to establish the Aviation Workforce Development Grant Programs.

Financial Review

The FAA will perform an assessment of risk posed by the applicant prior to issuing awards. The assessment includes evaluating previous Federal grant experiences, financial stability, and potential for conflicts of interest. The applicant will be asked to submit a copy of its most recent Cognizant Auditing Agency Report and remedies to all findings. Any potential applicants with previous disbarments or suspensions will be disqualified.

Unique Identifier or System of Award

The applicant is required to: (i) Be registered in www.SAM.Gov before submitting its application; (ii) provide a valid unique entity identifier in its application; and (iii) continue to maintain an active SAM registration with current information at all times during which it has an active Federal award or an application or plan under consideration by a Federal awarding agency.

The Federal awarding agency may not make a Federal award to an applicant until the applicant has complied with all applicable unique identifier and SAM requirements. If an applicant has not fully complied with the requirements by the time of the Federal awarding agency is ready to make a Federal award, the Federal awarding agency may determine that the applicant is not sufficiently prepared or is not qualified to receive a Federal award.

Degree of Federal Involvement

The FAA may conduct site visits of applicant institutions and facilities to observe curriculum delivery, and review relevant materials including books, records, activity plans, relevant documents, accounting procedures, processes, and related activities and resources. The FAA will require semi-annual progress reports and final reports.

Federal Assistance Program Law

The FAA will adhere to all Guidelines for Federal Assistance Programs outlined in the Uniform Administrative Requirements, Cost Principles, and Audit Requirements for Federal Awards. To review the 2 CFR 200, please visit: https://www.ecfr.gov/cgi-bin/text-idx?tpl=/ecfrbrowse/Title02/2cfr200_main_02.tpl.

Note: This is not a request for proposals or offers.

Issued in Washington, D.C., on September 2, 2020.
Patricia A. Watts,
Grants Officer, Aviation Workforce Development Grant Programs, NextGen Grants Management Branch (ANG-A19).

[FR Doc. 2020-19813 Filed 9-8-20; 8:45 am]

BILLING CODE 4910-13-P